CONSUMER PRODUCT SAFETY COMMISSION

Policy Statement on Reporting Information Under 15 U.S.C. 2064(b) About Potentially Hazardous Products Distributed Outside the United States; Request for Comments

AGENCY: Consumer Product Safety Commission.

ACTION: Notice of proposed policy statement.

SUMMARY: Section 15(b) of the Consumer Product Safety Act, 15 U.S.C. 2064(b), requires manufacturers, distributors, and retailers of consumer products to report potential product hazards to the Commission. The Commission is seeking public comment on a policy statement that information concerning products sold outside of the United States that may be relevant to evaluating defects and hazards associated with products distributed within the United States is reportable under section 15(b).¹

¹ The Commission voted 2-1 to publish this policy statement for public comment. Commissioner Gall voted against publication of the policy statement. Her dissenting statement is available from the Office of the Secretary, Consumer Product Safety Commission, Washington, DC 20207-0001.

DATES: Comments are due no later than March 5, 2001.

ADDRESSES: Comments should be submitted to the Office of the Secretary, Consumer Product Safety Commission, Washington, DC 20207-0001, or delivered to room 502, 4330 East West Highway, Bethesda, MD 20814.

FOR FURTHER INFORMATION CONTACT: Marc Schoem, Director, Division of Recalls and Compliance, Consumer Product Safety Commission, Washington, DC 20207, telephone (301) 504-0608, ext. 1365, fax. (301) 504-0359, E-mail address—mschoem@cpsc.gov.

SUPPLEMENTARY INFORMATION: Section 15(b) of the Consumer Product Safety Act (CPSA), 15 U.S.C. 2064(b), imposes specific reporting obligations on manufacturers, importers, distributors and retailers of consumer products distributed in commerce. A firm that obtains information that reasonably supports the conclusion that such a product:

(1) Fails to comply with an applicable consumer product safety rule or with a voluntary consumer product safety standard upon which the Commission has relied under section 9 of the CPSA,

(2) Contains a defect that could create a substantial product hazard as defined in section 15(a)(2) of the CPSA, 15 U.S.C. 2064(a)(2), or

(3) Creates an unreasonable risk of serious injury or death must immediately inform the Commission unless the firm has actual knowledge that the Commission has been adequately informed of the failure to comply, defect, or risk.

The purpose of reporting is to provide the Commission with the information it needs to determine whether remedial action is necessary to protect the public. To accomplish this purpose, section 15(b) contemplates that the Commission receive, at the earliest time possible, all available information that can assist it in evaluating potential product hazards. For example, in deciding whether to report a potential product defect, the law does not limit the obligation to report to those cases in which a firm has finally determined that a product in fact contains a defect that creates a substantial product hazard or has pinpointed the exact cause of such a defect. Rather, a firm must report if it obtains information which reasonably supports the conclusion that a product it manufactures and/or distributes contains a defect which could create such a hazard or that the product creates an unreasonable risk of serious injury or death. 15 U.S.C. 2064(b)(2) and (3); 16 CFR 1115.4 and 6.

Nothing in the reporting requirements of the CPSA or the Commission's interpretive regulation at 16 CFR Part 1115 limits reporting to information derived solely from experience with products sold in the United States. The Commission's interpretative rule enumerates, at 16 CFR 1115.12(f), examples of the different types of information that a firm should consider in determining whether to report. The regulation does not exclude information from evaluation because of its geographic source. The Commission interprets the statutory reporting requirements to mean that, if a firm obtains information that meets the criteria for reporting listed above and that is relevant to a product it sells or distributes in the U.S., it must report that information to the CPSC, no matter where the information came from. Such information could include incidents or experience with the same or a substantially similar product, or a component thereof, sold in a foreign country.

Over the past several years, the Commission has received reports under section 15(b) that have included information on experience with products abroad, and, when appropriate, has initiated recalls based in whole or in part on that experience. Thus, a number of companies already view the statutory language as the Commission does. However, with the expanding global market, more firms are obtaining this type of information, but many may be unfamiliar with this aspect of reporting. Therefore, the Commission proposes to issue this policy statement to assist those firms in complying with the requirements of section 15(b) of the Consumer Product Safety Act.

The Commission is not required to seek public comment on what is a straight-forward reading of the CPSA. Nevertheless, because this is the first public announcement of this interpretation, the Commission is providing the public with this opportunity to comment prior to issuance of this policy statement.

Dated: December 28, 2000.
Sadye E. Dunn,
Secretary, Consumer Product Safety Commission.

[FR Doc. 01-134 Filed 1-2-01; 8:45 am]

BILLING CODE 6355-01-P